Title 3—

The President

Proclamation 9104 of April 11, 2014

Pan American Day and Pan American Week, 2014

By the President of the United States of America

A Proclamation

On Pan American Day and during Pan American Week, the Western Hemisphere celebrates a significant anniversary in our shared history—the birth of the International Union of American Republics, forerunner to the Organization of American States. In the 124 years since, our nations have faced great challenges and achieved great progress. We have built lasting friendships, created cultural exchanges, and worked in concert to meet the aspirations of all our peoples.

Today, the United States has more connections to our American neighbors than any other region in the world. These ties are essential to our security and prosperity, and they grow ever more vital with each passing year. Trade between our nations has surged. We are expanding educational exchanges that open doors to new markets, research, and opportunity. And in the international community, we work side-by-side to meet global challenges, from growing the world economy to combatting climate change. In the years to come, the United States will continue investing in clean energy, low-carbon development, and climate-resilient, inclusive growth. Alongside our regional partners, we will ensure that tomorrow's global energy map will be centered in the Americas.

Even more than shared interests, we are bound by shared ideals. After decades of progress, Latin America is assuming a greater role in world affairs. Together, Americans north and south have worked to strengthen civil society, and together we must stand for democracy, human rights, open markets, and fair trade. These practices advance peace and stability. They move us toward a world where—from Boston to Buenos Aires, from Mexico City to Montreal—human beings can pursue their dreams in freedom and dignity.

As we renew the ties between our countries and our peoples, let us reach for this future in the spirit of cooperation and mutual trust.

NOW, THEREFORE, I, BARACK OBAMA, President of the United States of America, by virtue of the authority vested in me by the Constitution and the laws of the United States, do hereby proclaim April 14, 2014, as Pan American Day and April 13 through April 19, 2014, as Pan American Week. I urge the Governors of the 50 States, the Governor of the Commonwealth of Puerto Rico, and the officials of the other areas under the flag of the United States of America to honor these observances with appropriate ceremonies and activities.

IN WITNESS WHEREOF, I have hereunto set my hand this eleventh day of April, in the year of our Lord two thousand fourteen, and of the Independence of the United States of America the two hundred and thirty-eighth.

[FR Doc. 2014-08839

Filed 4-15-14; 11:15 am]

Billing code 3295-F4